DEPARTMENT OF HEALTH AND HUMAN SERVICES

National Institutes of Health

National Cancer Institute; Amended Notice of Meeting

Notice is hereby given of a change in the meeting of the National Cancer Institute Special Emphasis Panel, TEP-8A: SBIR Contract Review, February 1, 2023, 9:30 a.m. to 5:30 p.m., National Cancer Institute at Shady Grove, Room 7W030, 9609 Medical Center Drive, Rockville, Maryland, 20850 which was published in the Federal Register on December 19, 2022, FR Doc 2022-27417, 87 FR 77624.

This notice is being amended to change the meeting time from 9:30 a.m.-5:30 p.m. to 10:00 a.m.-2:00 p.m. on February 1, 2023. The meeting date and location will stay the same. The meeting is closed to public.

Dated: December 21, 2022.
Melanie J. Pantoja,
Program Analyst, Office of Federal Advisory Committee Policy.

[FR Doc. 2022-28186 Filed 12-27-22; 8:45 am]

BILLING CODE 4140-01-P